DEPARTMENT OF THE INTERIOR

Bureau of Land Management

[ES-960-1910BJ-4489] ES-052117, Group 35, Illinois

Notice of Filing of Plat of Survey; Illinois

The Bureau of Land Management (BLM) will officially file the plat of the dependent resurvey of a portion of the north boundary, a portion of the subdivisional lines and the survey of the Lock and Dam Nos. 25 and 26 acquisition boundaries in Township 10 South, Range 2 West and the dependent resurvey of a portion of the east boundary, a portion of the subdivisional lines and the survey of the Lock and Dam No. 25 acquisition boundary in Township 10 South, Range 3 West, Fourth Principal Meridian, Illinois, accepted on March 11, 2004, in the Eastern States Office, Springfield, Virginia, 30 calendar days from the date of publication in the Federal Register.

The survey was requested by the U.S. Army Corps of Engineers.

All inquiries or protests concerning the technical aspects of the survey must be submitted in writing to the Chief Cadastral Surveyor, Eastern States, Bureau of Land Management, 7450 Boston Boulevard, Springfield, Virginia 22153, prior to the date of the official filing.

We will place a copy of the plat we described in the open files. Copies of the plat will be made available upon request and prepayment of the appropriate fee.

Dated: March 11, 2004.
Stephen D. Douglas,
Chief Cadastral Surveyor.

[FR Doc. 04-6079 Filed 3-17-04; 8:45 am]

BILLING CODE 4310-GJ-P